DEPARTMENT OF LABOR

Employment and Training Administration

Investigations Regarding Certifications of Eligibility To Apply for Worker Adjustment Assistance

Petitions have been filed with the Secretary of Labor under Section 221(a) of the Trade Act of 1974 (“the Act”) and are identified in the Appendix to this notice. Upon receipt of these petitions, the Director of the Division of Trade Adjustment Assistance, Employment and Training Administration, has instituted investigations pursuant to Section 221(a) of the Act.

The purpose of each of the investigations is to determine whether the workers are eligible to apply for adjustment assistance under Title II, Chapter 2, of the Act. The investigations will further relate, as appropriate, to the determination of the date on which total or partial separations began or threatened to begin and the subdivision of the firm involved.

The petitioners or any other persons showing a substantial interest in the subject matter of the investigations may request a public hearing, provided such request is filed in writing with the Director, Division of Trade Adjustment Assistance, at the address shown below, not later than September 14, 2009.

Interested persons are invited to submit written comments regarding the subject matter of the investigations to the Director, Division of Trade Adjustment Assistance, at the address shown below, not later than September 14, 2009.

The petitions filed in this case are available for inspection at the Division of Trade Adjustment Assistance, Employment and Training Administration, U.S. Department of Labor, Room N-5428, 200 Constitution Avenue, NW., Washington, DC 20210.

Signed at Washington, DC, this 19th day of August 2009.
Linda G. Poole,
Certifying Officer, Division of Trade Adjustment Assistance.

Appendix
[TAA petitions instituted between 6/15/09 and 6/19/09]
TA-W | Subject firm (Petitioners) | Location | Date of institution | Date of petition
71204 | Keystone Powdered Metal Co (USW) | St. Marys, PA | 06/15/09 | 06/15/09
71205 | ArcelorMittal Georgetown (USW) | Georgetown, SC | 06/15/09 | 05/20/09
71206 | SVS/Comdata/Ceridian (Wkrs) | El Paso, TX | 06/15/09 | 06/12/09
71207 | Sanford Business to Business (Wkrs) | Janesville, WI | 06/15/09 | 06/12/09
71208 | Steelcase, Inc. (Comp) | Kentwood, MI | 06/15/09 | 05/27/09
71209 | A.J. Oster LLC (Comp) | Allentown, PA | 06/15/09 | 06/11/09
71210 | Grede Foundries, Inc. (Wkrs) | Greenwood, SC | 06/15/09 | 06/12/09
71211 | Heli-One USA, Inc (Wkrs) | Hurst, TX | 06/15/09 | 06/12/09
71212 | International Automotive Components of NA (Comp) | Plymouth, MI | 06/15/09 | 06/12/09
71213 | Unitex Chemical Corp (Comp) | Greensboro, NC | 06/15/09 | 06/12/09
71214 | Color-fi (Comp) | Sumter, SC | 06/15/09 | 06/12/09
71215 | Carl W. Newel Mfg. (0000) | Glendale, CA | 06/15/09 | 06/12/09
71216 | Midland Forge (Comp) | Cedar Rapids, IA | 06/15/09 | 06/11/09
71217 | Republic Special Metals, Inc., Bay City Forge Division (Wkrs) | Erie, PA | 06/16/09 | 05/25/09
71218 | Wausau Paper Corporation (54914) | Appleton, WI | 06/16/09 | 06/15/09
71219 | Bush Industries, Inc. (Comp) | Jamestown, NY | 06/16/09 | 06/10/09
71220 | Schering-Plough Corporation (State) | Kenilworth, NJ | 06/16/09 | 06/15/09
71221 | Eveden, Inc. (Wkrs) | Monroe, GA | 06/16/09 | 06/04/09
71222 | Teleflex Medical (USW) | Wyomissing, PA | 06/16/09 | 06/15/09
71223 | Keystone Powdered Metal Company (Comp) | Cherryville, NC | 06/16/09 | 06/15/09
71224 | Oracle Lens Manufacturing (Comp) | Warwick, RI | 06/16/09 | 06/15/09
71225 | Dura Automotive Systems (Comp) | Stockton, IL | 06/16/09 | 06/05/09
71226 | Tempel Steel Company (Comp) | Chicago, IL | 06/16/09 | 06/15/09
71227 | Dream Clean, Inc. (Comp) | Piney Flats, TN | 06/16/09 | 06/15/09
71228 | Kawneer Company, Inc. (USW) | Hernando, MS | 06/16/09 | 06/15/09
71229 | Diamond Chain Co. (USW) | Indianapolis, IN | 06/16/09 | 06/11/09
71230 | Monaco Coach Corporation (State) | Coburg, OR | 06/16/09 | 06/15/09
71231 | International Color Services (Wkrs) | Scottsdale, AZ | 06/16/09 | 06/09/09
71232 | Norandal (Wkrs) | Huntingdon, TN | 06/16/09 | 06/15/09
71233 | Advance Accessory System (Wkrs) | Shelby, MI | 06/16/09 | 06/05/09
71234 | Paper Converting Machine Co (UAW) | Green Bay, WI | 06/16/09 | 06/03/09
71235 | Vairex Corp. (State) | Boulder, CO | 06/16/09 | 06/15/09
71236 | Diversified Machine Milwaukee (Comp) | Milwaukee, WI | 06/17/09 | 06/12/09
71237 | Phillips Plastics Custom Div. (Wkrs) | Phillips, WI | 06/17/09 | 06/02/09
71238 | John Maneely Company (USW) | Sharon, PA | 06/17/09 | 06/09/09
71239 | Marshall Manufacturing Corp (Wkrs) | Cape Canaveral, FL | 06/17/09 | 06/08/09
71240 | On Target Xpress, Inc./DHL (Wkrs) | Spokane, WA | 06/17/09 | 05/18/09
71241 | A.O. Smith Electrical Products Co (Comp) | Tipp City, OH | 06/17/09 | 06/16/09
71242 | BAE Systems Controls, Inc. (Comp) | Irving, TX | 06/17/09 | 06/15/09
71243 | Affiliated Computer Services (ACS) (Wkrs) | Lexington, KY | 06/17/09 | 06/03/09
71244 | Weekly Reader Publishing/Readers Digest (Wkrs) | Pleasantville, NY | 06/17/09 | 06/15/09
71245 | Montana Tunnels Mining, Inc. (Comp) | Jefferson City, MT | 06/17/09 | 06/01/09
71246 | True Temper Sports (Wkrs) | Amory, MS | 06/17/09 | 06/08/09
71247 | International Automotive Components of NA (Rep) | Dearborn, MI | 06/17/09 | 06/12/09
71248 | International Business Machines Corporation (IBM) (Wkrs) | Armonk, NY | 06/17/09 | 06/01/09
71249 | General Motors Boxwood Road Assembly Plant (UAW) | Wilmington, DE | 06/17/09 | 06/15/09
71250 | T & S Hardwoods, Inc. (Comp) | Milledgeville, GA | 06/17/09 | 06/15/09
71251 | Ancor Specialties (Wkrs) | Ridgway, PA | 06/17/09 | 06/12/09
71252 | Mold Base Industries (Wkrs) | Harrisburg, PA | 06/17/09 | 06/15/09
71253 | Integrated Silicon Solution, Inc. (ISSI) (Comp) | San Jose, CA | 06/17/09 | 06/15/09
71254 | Precision Parts Center (Comp) | Corpus Christi, TX | 06/17/09 | 06/15/09
71255 | Flextronics (Wkrs) | Louisville, KY | 06/17/09 | 06/03/09
71256 | Powerex, Inc. (Comp) | Youngwood, PA | 06/17/09 | 06/10/09
71257 | Beaver Brook Lumber (Wkrs) | Nashville Plantation, ME | 06/17/09 | 06/17/09
71258 | UPM Raflatac, Inc. (Comp) | Hanover Township, PA | 06/17/09 | 06/16/09
71259 | Cooper Tools (UAW) | Dayton, OH | 06/17/09 | 06/16/09
71260 | Cascade Microtech, nc. (Rep) | Beaverton, OR | 06/17/09 | 06/16/09
71261 | Interlake Material Handling (UAW) | Naperville, IL | 06/17/09 | 06/16/09
71262 | Penn-Union Corporation (GMP) | Edinboro, PA | 06/17/09 | 05/21/09
71263 | Belvidere Chrysler Assembly (UAW) | Belvidere, IL | 06/17/09 | 06/16/09
71264 | Aviza Technology, Inc. (Wkrs) | Scotts Valley, CA | 06/17/09 | 05/26/09
71265 | Numatics, Inc (Comp) | Lapeer, MI | 06/17/09 | 06/10/09
71266 | Rockwell Automation (Wkrs) | Troy, MI | 06/17/09 | 06/15/09
71267 | B. F. Goodrich Tire Manufacturing (USW) | Opelika, AL | 06/17/09 | 06/16/09
71268 | Komo Machine, Inc. (State) | Sauk Rapids, MN | 06/17/09 | 06/16/09
71269 | Horton Manufacturing Company, LLC (Wkrs) | Tallmadge, OH | 06/17/09 | 06/16/09
71270 | Pentagon Technologies Group, Inc. (Comp) | Portland, OR | 06/17/09 | 06/16/09
71271 | North American Hoganas, High Alloys, LLC (Comp) | Johnstown, PA | 06/17/09 | 06/16/09
71272 | Crucible Specialty Metals (Wkrs) | Syracuse, NY | 06/17/09 | 06/16/09
71273 | Comau Automation (Wkrs) | Novi, MI | 06/17/09 | 06/09/09
71274 | England, Inc. (Wkrs) | Morristown, IN | 06/17/09 | 06/12/09
71275 | United Airlines (IBT) | Portland, OR | 06/17/09 | 06/16/09
71276 | Health Net of the Northeast (Wkrs) | Shelton, CT | 06/18/09 | 05/28/09
71277 | Carson Industries (Union) | Freeport, PA | 06/18/09 | 05/31/09
71278 | Kennametal, Inc. (Wkrs) | Farmington Hills, MI | 06/18/09 | 06/09/09
71279 | HCL America (Wkrs) | Sunnyvale, CA | 06/18/09 | 06/17/09
71280 | IBM (State) | Beaverton, OR | 06/18/09 | 06/16/09
71281 | International Automotive Components of NA (Bldgs 1 and 2) (Rep) | Troy, MI | 06/18/09 | 06/15/09
71282 | Bowater Alabama, LLC (USW) | Westover, AL | 06/18/09 | 06/16/09
71283 | Wolters Kluwer Health-Pharma Solutions Business Unit (Wkrs) | Phoenix, AZ | 06/18/09 | 06/12/09
71284 | Airtex Products LP (Comp) | Fairfield, IL | 06/18/09 | 06/05/09
71285 | Modar, Inc. (Comp) | Benton Harbor, MI | 06/18/09 | 06/16/09
71286 | Frame Builders, Inc. (Comp) | Thomasville, NC | 06/18/09 | 06/10/09
71287 | Masco Builder Cabinet Group (Wkrs) | Jackson, OH | 06/18/09 | 06/11/09
71288 | Hancock Company/dba Gitman and Company (Wkrs) | New York, NY | 06/18/09 | 06/18/09
71289 | Shadowline, Inc. (Comp) | Morganton, NC | 06/18/09 | 06/08/09
71290 | Unison Engine Components (Wkrs) | Asheville, NC | 06/18/09 | 05/16/09
71291 | Modine Manufacturing (USW) | Pemberville, OH | 06/18/09 | 06/12/09
71292 | Nobel Automotive Ohio, LLC (Comp) | Archbald, OH | 06/18/09 | 06/18/09
71293 | Worthington Steel Co. of Kentucky LLC (Comp) | Louisville, KY | 06/18/09 | 05/18/09
71294 | Liberty Pressed Metals LLC (Wkrs) | Kersey, PA | 06/19/09 | 06/17/09
71295 | Advanced Industrial Machinery Inc (Comp) | Hickory, NC | 06/19/09 | 05/30/09
71296 | Applied Materials, MTA (Wkrs) | Boise, ID | 06/19/09 | 05/19/09
71297 | TNS Custom Research (Wkrs) | Indiana, PA | 06/19/09 | 06/17/09
71298 | Key Safety Inc (Wkrs) | Sterling Heights, MI | 06/19/09 | 06/08/09
71299 | Polymer Division of Johnson Diverse (Comp) | Sturevant, WI | 06/19/09 | 06/18/09
71300 | Five Fortune Sewing Co. (Wkrs) | San Francisco, CA | 06/19/09 | 06/12/09
71301 | Blazing Color (State) | Bloomington, MN | 06/19/09 | 06/18/09
71302 | TNS Custom Research (Wkrs) | Indiana, PA | 06/19/09 | 06/17/09
71303 | New Page Corporation (Comp) | Wickliffe, KY | 06/19/09 | 06/18/09
71304 | Hitachi Cable Indiana-KY Plant (Wkrs) | Russell Springs, KY | 06/19/09 | 06/17/09
71305 | Rockwell Automation (Comp) | Sumner, IA | 06/19/09 | 06/17/09
71306 | Sprint Nextel (Wkrs) | Overland Park, KS | 06/19/09 | 06/10/09
71307 | Clear Lake Lumber (Wkrs) | Spartansburg, PA | 06/19/09 | 06/10/09
71308 | Dometic Sanitation Corp. (Wkrs) | Big Prairie, OH | 06/19/09 | 05/28/09
71309 | Komatsu Forklift USA, LLC (Comp) | Covington, GA | 06/19/09 | 06/15/09
71310 | Littelfuse, Inc (Comp) | Chicago, IL | 06/19/09 | 06/18/09
71311 | Outbound Technologies (Wkrs) | Indianapolis, IN | 06/19/09 | 06/18/09
71312 | Wolfers Kluwer Health Pharma Solutions Business Unit (Wkrs) | Phoenix, AZ | 06/19/09 | 06/12/09
71313 | Fort Wayne Foundry Corporation (UAW) | Fort Wayne, IN | 06/19/09 | 06/16/09
71314 | Mattson Technology, Inc. (State) | Fremont, CA | 06/19/09 | 06/18/09
71315 | Cascade Grain Products, LLC (Union) | Clatskanie, OR | 06/19/09 | 06/18/09
71316 | Nypro Oregon (Comp) | Corvallis, OR | 06/19/09 | 06/16/09
71317 | Product Action (Wkrs) | Toledo, OH | 06/19/09 | 06/11/09
71318 | Holm Industries, Inc. (IAMAW) | Scottsburg, IN | 06/19/09 | 06/18/09
71319 | Occidental Chemical Corporation (Comp) | Mobile, AL | 06/19/09 | 06/18/09
71320 | Eck Industries, Inc. (Union) | Manitowoc, WI | 06/19/09 | 06/12/09
71321 | Auburn Hosiery Mills, Inc. (Comp) | Auburn, KY | 06/19/09 | 06/18/09
71322 | New Page (Wkrs) | Wickliffe, KY | 06/19/09 | 06/16/09

[FR Doc. E9-21159 Filed 9-1-09; 8:45 am]

BILLING CODE 4510-FN-P